DEPARTMENT OF THE INTERIOR

Bureau of Land Management

[LLNV930000. L51010000.PQ0000. LVRWF2107770; N-99863; MO #4500161333]

Notice of Intent To Prepare an Environmental Impact Statement and Potential Resource Management Plan Amendments for the Greenlink West Project in Clark, Nye, Esmeralda, Mineral, Lyon, Storey, and Washoe Counties in Nevada

AGENCY: Bureau of Land Management, Interior.

ACTION: Notice of intent.

SUMMARY: The Bureau of Land Management (BLM) Nevada State Office (NVSO) intends to prepare an Environmental Impact Statement (EIS) and potential associated Amendments to the 2001 Carson City Consolidated Resource Management Plan (RMP), 1998 Las Vegas Field Office RMP, and the 1997 Tonopah RMP for the proposed electrical transmission facilities referred to as the Greenlink West Project. Nevada Power Company and Sierra Pacific Power Company, doing business as NV Energy (Proponent), are proposing to build the Greenlink West Project in Clark, Nye, Esmeralda, Mineral, Lyon, Storey, and Washoe counties in Nevada. Publication of this notice initiates the scoping process and opens a 30-day public comment period to solicit public comments on the scope of the analysis, including issues and alternatives, and to provide comments on the planning criteria.

DATES: This notice initiates a 30-day public scoping period that will assist in preparation of the Draft EIS.

The BLM expects to hold at least four public meetings in Nevada during the scoping period, to provide an opportunity to review the proposal and project information. Announcements will be made by news release to the media and posted on the BLM's website listed in the ADDRESSES section. Comments on issues may be submitted in writing until June 1, 2022. All comments must be received by 30 days from the date of publication of this Notice in the Federal Register.

ADDRESSES: You may submit comments or resource information related to the project by any of the following methods:

• Website: https://eplanning.blm.gov/eplanning-ui/project/2017391/510.

• Mail: Gregory L. Helseth, Branch Chief Renewable Energy, BLM Nevada State Office, Greenlink West Project, 1340 Financial Blvd., Reno, NV 89520.

The website also contains available documents relevant to the planning process for the Greenlink West Project.

FOR FURTHER INFORMATION CONTACT: For further information and/or to have your name added to our mailing list, please contact Rita Henderson, Public Affairs Specialist, BLM Nevada State Office, 1340 Financial Boulevard, Reno, NV 89520; phone (775) 461-6753; or email ritahenderson@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On September 22, 2020, NV Energy filed an Application for Transportation, Utility Systems, Telecommunications, and Facilities on Federal Lands and Property (Standard Form 299) and a preliminary Plan of Development (POD) with the BLM, for a Federal Land Policy and Management Act of 1976 (FLPMA) ROW authorization for the Greenlink West Project (NVN99863). The Greenlink West Project, as proposed, is an approximately 474-mile system of new 525-kilovolt (kV) and 345-kV overhead electric transmission lines and includes transmission and distribution lines, substations, microwave radio facilities, amplifier sites, access roads, and construction/material yards. In the application to the BLM, NV Energy has applied for a 600-foot-wide temporary right-of-way (ROW) for construction and a 200-foot-wide permanent ROW for operations and maintenance of the 525-kV line and a 160-foot-wide permanent ROW for the 345-kV lines.

The proposed transmission facilities would include approximately 13,767 acres land of which approximately 10,438 acres are public lands administered by the BLM. The remaining lands in the project area are managed by the Bureau of Indian Affairs, Clark County, Department of Defense, Department of Energy, National Park Service, Nevada Division of State Lands, U.S. Fish and Wildlife Service, U.S. Forest Service, and private landowners. On March 22, 2021, NV Energy received approval for the various electric transmission facilities associated with the proposed project by the Public Utilities Commission of Nevada.

Purpose and Need for the Proposed Action

In compliance with the National Environmental Policy Act of 1969, as amended (NEPA), and the FLPMA, as amended, the BLM NVSO intends to prepare an EIS to analyze the environmental impacts associated with NV Energy's application seeking to obtain a ROW grant for the Greenlink West Project. NV Energy's ROW grant may require plan amendments to the Carson City District Office, Tonopah Field Office, and Southern Nevada District Office RMPs, which the BLM also will analyze in the EIS.

Under Federal Energy Regulatory Commission's Open Access Transmission Tariff adopted in 18 CFR 35 and 385 Order No. 888, NV Energy is required to plan and construct adequate transmission facilities to deliver the projected electric demand in Nevada. The State of Nevada is facing unprecedented changes in both system growth and resource requirements. By 2031, about 1,000 megawatts (MW) of base load generation are planned for retirement, i.e., will no longer be generating electricity. In addition, NV Energy has received more than 1,450 MW of new electric service requests in northern Nevada that will require additional transmission facilities. Currently, the maximum amount of power that can be provided in northern Nevada on the existing transmission network is 1,275 MW, and all 1,275 MW are being used by current network customers. The power demand in northern Nevada is forecast to increase by more than 700 MW within 10 years. New transmission infrastructures are required to deliver the anticipated electric power demand. The Greenlink West Project would alleviate some of the capacity issues on existing transmission lines, and enhance electric grid reliability, by allowing interconnections to occur throughout the State.

The purpose of this Federal action is to respond to a ROW application for construction, operation, maintenance, and decommissioning of proposed electrical transmission facilities on Federal land. Based on the goals and objectives of the Proponent and the BLM's authority, the BLM will evaluate the ROW grant application submitted by NV Energy in compliance with FLPMA, BLM regulations, and other applicable Federal laws and policies. The need for the BLM's action arises from FLPMA, which establishes a multiple use mandate for management of Federal lands, including “systems for generation, transmission, and distribution of electric energy” (FLPMA Title V). The BLM's action in considering NV Energy's ROW application is delegated authority of the Secretary of the Interior to “grant issue or renew rights of way . . . for generation, transmission, and distribution of electric energy” (43 CFR part 2800).

Preliminary Proposed Action and Alternatives

As described in Greenlink West Project's POD, the proposed 525-kV facilities would begin approximately 10 miles north of Yerington in Lyon County, traverse approximately 360 miles through portions of Lyon, Mineral, Esmeralda, Nye, and Clark counties, and terminate at the Harry Allen Substation approximately 10 miles north of North Las Vegas, Clark County. Three proposed 345-kV facilities would begin 10 miles north of Yerington in Lyon County and traverse through portions of Lyon, Storey, and Washoe counties. Two of the 345-kV lines would terminate approximately 12 miles northwest of Silver Springs in Lyon County, and the third would terminate approximately 7 miles southeast of Reno in Washoe County. The proposed 345-kV facilities cross approximately 10,308 acres of BLM-administered land and 3,712 acres of private land. The four expanded substations (Comstock Meadows, Mira Loma, Fort Churchill, and Harry Allen) and the two new substations (Esmeralda and Amargosa) for the Greenlink West Project would include fiber optic cable and microwave antennae towers for control and operation of the transmission system.

The Draft EIS will analyze a reasonable range of alternatives to be fully developed after considering information provided during the scoping period. Preliminary alternatives may include changes to proposed facility layouts and ROW segments, activity schedules, and seasonal operation requirements designed to protect resources under BLM management while still retaining a reliable and feasible electrical transmission facilities. Potential amendments to RMPs will be identified throughout the EIS alternative development process. The range of alternatives analyzed in the Draft EIS will include a no-action alternative. Under the no-action alternative, the BLM would deny the application, and NV Energy electrical transmission facilities described in the POD would not be built.

Summary of Expected Impacts

The Draft EIS will identify and describe the effects of the Proposed Action on the human environment. Based on a preliminary evaluation of resources, the BLM expects impacts (either beneficial or adverse and of varying intensity) to wildlife and their habitats, land uses, cultural and paleontological resources, visual (scenic) resources, military training flight paths, and social and economic conditions. The BLM will identify, analyze, and require on-site mitigation, as appropriate, to address the reasonably foreseeable impacts to resources from approval of this project. Mitigation may include avoidance, minimization, rectification, reduction, or elimination over time, and may be considered on multiple scales to address the associated impact.

The disciplines to be represented in the preparation of the EIS include, but are not limited to:

• Air quality;

• Cultural resources;

• Earth resources (geology, minerals, and soils);

• General and special-status wildlife species, including Threatened and Endangered Species and their habitat;

• Health and safety/hazardous materials;

• Land use and recreation;

• Paleontological resources;

• Social and economic conditions;

• Special designations; and

• Vegetation/riparian/noxious and invasive weeds/special status plant species, including Threatened and Endangered Species and their habitat;

• Visual (scenic) resources;

• Water resources;

• Wilderness, wilderness study areas, and lands with wilderness characteristics;

• Wildland fire ecology and management.

Anticipated Permits and Authorizations

In addition to the requested ROW grant, other Federal, state, and local authorizations will likely be required for the Greenlink West Project. These include authorizations under the National Historic Preservation Act of 1966, Endangered Species Act of 1973, and other laws and regulations determined to be applicable to the Greenlink West Project.

If approved, the BLM would issue a ROW Grant and Temporary Use Permit for Federal lands. Any portion of the Greenlink West Project selected that would cross the Tule Springs Fossil Bed National Monument, Native American Indian reservations, or the Humboldt-Toiyabe National Forest would require permit approval from the National Park Service, Bureau of Indian Affairs, or U.S. Forest Service, respectively.

Authorization of this proposal may require amendments to the applicable RMPs in effect for the Carson City District Office, Tonopah Field Office, and Southern Nevada District Office to modify the location of the existing West-Wide Energy Corridors or potentially to designate a new energy corridor with an associated Visual Resource Management class. The West-Wide Energy Corridors originated through the Energy Policy Act of 2005 (EPAct), enacted August 8, 2005. The EPAct requires, among other things, the designation of energy corridors (also referred to as utility corridors) on Federal lands in 11 western states (including Nevada), the establishment of procedures to ensure that additional corridors are identified and designated as necessary, and to expedite applications to construct or modify electricity transmission and distribution facilities. These designated corridors are referred to as the West-Wide Energy Corridors. Information on the West-Wide Energy Corridor and the Final EIS and Decision are available at http://corridoreis.anl.gov/index.cfm.

By this notice, the BLM is complying with requirements 43 CFR 1610.2(c) to notify the public of potential amendments to the Carson City District Office, Tonopah Field Office, and Southern Nevada District Office RMPs. If any RMP amendments are necessary, the BLM would integrate the resource management planning process, as described in 43 CFR subpart 1610 and 36 CFR 219.8, concurrently into the NEPA process and EIS for the Greenlink West Project.

Schedule for the Decision-Making Process

The Draft EIS is scheduled for Fall of 2022 and the Final EIS is scheduled for Spring of 2023, with a Record of Decision issued Summer of 2023. NV Energy then is anticipated to secure all necessary authorizations following the BLM decision.

Public Scoping Process

This notice of intent initiates the scoping process, which guides development of the EIS. The scoping process encourages those who may be interested or affected by the Greenlink West Project to submit comments on resources and issues, impact-causing factors, reasonable alternatives and potential mitigation measures to be analyzed in the EIS. For information on how to submit comments, see the ADDRESSES section. The BLM will hold public scoping meetings; the dates, locations, and times will be announced at least 15 days in advance through public notices, media releases and/or mailings.

The BLM will use the NEPA process to satisfy the public involvement requirements of Section 106 of the National Historic Preservation Act (NHPA) (54 U.S.C. 306108) pursuant to 36 CFR 800.2(d)(3). Information about historic and cultural resources within the area potentially affected by the project will be used to identify and evaluate impacts in the context of both NEPA and Section 106 of the NHPA. Federal agencies, Tribes, State and local governments, and other stakeholders interested in historic properties and cultural resources may request to participate in the Section 106 process as a Consulting Party. The BLM will continue consultation with Tribes on a government-to-government basis in accordance with Executive Order 13175 and other policies. Tribal concerns, including potential impacts to cultural resources and treaty rights will be given due consideration.

You may submit comments in writing to the BLM at any public scoping meeting or at any time by using one of the methods listed in the ADDRESSES section of this notice. Public scoping meetings will be conducted in an open-house format with BLM staff and representatives from NV Energy available to explain project details and gather information from interested individuals or groups.

Comments must be received prior to the close of the scoping period to be included in the Draft EIS/Resource Management Plan Amendments (EIS/DRMPA). The BLM will provide additional opportunities for public participation upon publication of the EIS/DRMPA. The public will have the opportunity to comment during a 90-day public comment period on the EIS/DRMPA.

Any persons wishing to be added to a mailing list of interested parties can call or write to the BLM, as described in this Notice. Additional information meetings may be conducted throughout the process to keep the public informed of the progress of the EIS.

Request for Identification of Potential Alternatives, Information, and Analyses Relevant to the Proposed Action

The BLM encourages comments concerning the proposed Greenlink West Project, feasible alternatives, possible measures to minimize and/or avoid adverse environmental impacts, and any other information relevant to the proposed action. Planning criteria are the standards, rules, and other factors developed by managers and interdisciplinary team members for use in forming judgements about decision making, analysis, and data collection during the planning process. The BLM has identified some preliminary planning criteria to guide development of the RMP amendments, to avoid unnecessary data collection and analysis, and to ensure the RMP amendments are tailored to the issues. These criteria may be modified and/or other criteria may be identified during the public scoping process. The following preliminary specific planning criteria will help guide the planning process.

Criteria 1: The BLM will use a systematic interdisciplinary approach to integrate physical, biological, economic, and other sciences.

Criteria 2: The BLM will use the best available data regarding natural resources.

Criteria 3: The BLM will consider the present and potential uses of public lands and where existing RMP decisions are valid, those decisions will remain unchanged.

Criteria 4: The BLM will consider the relative scarcity of values and availability of alternative means and sites for recognizing those values.

Criteria 5: Any plan amendments will be completed in compliance with FLPMA, NEPA, and all other relevant Federal laws, executive orders, and BLM polices.

Criteria 6: The BLM will seek coordination and consistency with other government programs including Tribal plans and policies.

Criteria 7: Existing valid planning decisions for RMPs in effect will not change unless specifically amended, and any new plan decisions will not conflict with existing planning decisions.

Criteria 8: Any RMP amendments will recognize valid existing rights.

The BLM also requests assistance with identifying potential alternatives to the Proposed Action. As alternatives should resolve a problem with the Proposed Action, please indicate the purpose of the suggested alternative. In addition, the BLM requests the identification of potential impacts that should be analyzed. Impacts should be a result of the action; therefore, please identify the activity along with the potential impact. Information that reviewers have that would assist in the development of alternatives or analysis of resources issues is also helpful.

Actions not relevant to the Greenlink West Project include considerations of Areas of Critical Environmental Concern for nomination or recommendations. Permanent closure of public land to hunting, fishing, or recreational shooting are also not proposed as part of the Greenlink West Project and therefore a shooting “notice of intent” is not applicable under this Notice.

Lead and Cooperating Agencies

The BLM Nevada State Office is the lead agency for this EIS. At this time, the following have agreed to participate in the environmental analysis of the Greenlink West Project as Cooperating Agencies: Bureau of Indian Affairs—Pacific Region, Bureau of Indian Affairs—Western Region, Department of the Air Force, National Park Service, National Nuclear Security Administration, U.S. Army and Air National Guard, U.S. Environmental Protection Agency Region 9, U.S. Fish and Wildlife Service, U.S. Forest Service, Nevada Department of Transportation, Fallon Paiute Shoshone Tribe, Fort McDermitt Paiute and Shoshone Tribe, Las Vegas Paiute Tribe, Lovelock Paiute Tribe, Pyramid Lake Paiute Tribe, Reno-Sparks Indian Colony, Summit Lake Paiute Tribe, Timbisha Shoshone Tribe, Walker River Paiute Tribe, Washoe Tribe of Nevada and California, Winnemucca Paiute and Shoshone Tribe, Yerington Paiute Tribe, Yomba Shoshone Tribe, Nevada Department of Wildlife, Nevada Division of Environmental Protection, Nevada Division of Minerals, Nevada Division of State Lands, Clark County, Esmeralda County, Lyon County, Mineral County, Nye County, Storey County, Washoe County, Silver State Energy Association, City of Carson City, City of Las Vegas, City of North Las Vegas, City of Reno, and Town of Tonopah.

Nature of Decision To Be Made

The BLM will decide whether to grant, grant with conditions, or deny the application for a ROW. Pursuant to 43 CFR 2805.10, if the BLM issues a grant, the BLM decision maker may include terms, conditions, and stipulations determined to be in the public interest. The BLM will make the decision as to whether or not to approve any RMP amendments, in accordance with BLM policy about delegation of authorities. In the ROD, the BLM will clearly distinguish the RMP amendment decision from the selected alternative for the proposed electric transmission project.

Personal Identifying Information

Before including your address, phone number, email address, or other personal identifying information in your comment, you should be aware that your entire comment—including your personal identifying information—may be made publicly available at any time. While you can ask us in your comment to withhold your personal identifying information from public review, we cannot guarantee that we will be able to do so. Comments submitted anonymously will be accepted and considered.

It is important that reviewers provide their comments at such times and in such manner that they are useful to the agency's preparation of the EIS. Therefore, comments should be provided prior to the close of the public scoping period and should clearly articulate the reviewer's concerns and contentions.

Authority: 42 U.S.C. 4321 et seq., 40 CFR 1501.9, 40 CFR 1501.7, 43 CFR 1610.2. 43 CFR 2091.3-1, and 43 CFR 2804.25(f).

Jon K. Raby,
BLM Nevada State Director.

[FR Doc. 2022-09373 Filed 4-29-22; 8:45 am]

BILLING CODE 4310-HC-P